DEPARTMENT OF DEFENSE

Department of the Air Force

HQ USAF Scientific Advisory Board; Notice of Meeting

AGENCY: Department of the Air Force, HQ USAF Scientific Advisory Board.

ACTION: Notice of meeting.

SUMMARY: Pursuant to Public Law 92-463, notice is hereby given of the forthcoming briefing of the findings/results of the FY 2006 Science and Technology Quality Review of Air Force Research Laboratory. The purpose of the meeting is to brief Air Force leadership on the completeness and balance of Air Force Science and Technology programs. Because contractor-proprietary information will be discussed, this meeting will be closed to the public.

DATES: 30 March 2006.

ADDRESSES: Pentagon, Washington, DC.

FOR FURTHER INFORMATION: Lt. Col. Kyle Gresham, Air Force Scientific Advisory Board Secretariat, 1180 Air Force Pentagon, Rm 5D982, Washington DC 20330-1180, (703) 697-4811.

Boa-Anh Trinh,
Air Force Federal Register Liaison Officer.

[FR Doc. E6-4264 Filed 3-23-06; 8:45 am]

BILLING CODE 5001-05-P